DEPARTMENT OF ENERGY

Western Area Power Administration

Notice of Cancellation of Environmental Impact Statement for the Interconnection of the Hualapai Valley Solar Project, Mohave County, AZ (DOE/EIS-0434)

AGENCY: Western Area Power Administration, DOE.

ACTION: Notice of Cancellation of Environmental Impact Statement.

SUMMARY: The U.S. Department of Energy (DOE), Western Area Power Administration (Western) is issuing this notice to advise the public that it is cancelling the preparation of an environmental impact statement (EIS) under the National Environmental Policy Act (NEPA) on an interconnection request by the Hualapai Valley Solar, LLC (HVS).

DATES: This cancellation is effective on September 16, 2011.

FOR FURTHER INFORMATION CONTACT: For further information on the cancellation of this EIS process, contact Mr. Matt Blevins, NEPA Document Manager, Western Area Power Administration, P.O. Box 281213, Lakewood, CO 80228-8213, Fax: (720) 962-7263, phone: at (720) 962-7261 or (800) 336-7288, or e-mail: Blevins@wapa.gov. For general information on the DOE's NEPA review process, contact Carol M. Borgstrom, Director, Office of NEPA Policy and Compliance, GC-54, U.S. Department of Energy, 1000 Independence Avenue, SW., Washington, DC 20585-0119, telephone (202) 586-4600 or (800) 472-2756, facsimile (202) 586-7031.

SUPPLEMENTARY INFORMATION: Western is cancelling the preparation of an EIS under the NEPA on an interconnection request by HVS for a proposed utility-scale solar generation facility. HVS proposed to design, construct, operate, and maintain a 340-megawatt solar generation facility, and ancillary facilities including transmission line, access roads, and temporary laydown areas, about 27 miles north of Kingman in Mohave County, Arizona. HVS applied to interconnect the solar generation facility to Western's regional electric transmission system at one of two alternative points, (1) the Mead-Phoenix Transmission Line; or (2) the Liberty-Mead Transmission Line, thus triggering a NEPA review of Western's action to approve or deny HVS's request to interconnect its proposed project with Western's transmission system. If either one of the interconnection requests were approved, Western would have needed to construct and operate an interconnection facility at one of the interconnection points. Portions of HVS's proposed transmission line, effluent pipeline, and access roads would cross land administered by the U.S. Department of Interior, Bureau of Land Management (BLM), and would require right-of-way (ROW) authorization from BLM. In addition, Western applied to the BLM for an amendment to the ROW for its Mead-Liberty transmission line to accommodate a proposed new switchyard, and issue ROW for the proposed switchyard access road. BLM was a cooperating agency for the preparation of the EIS.

A Notice of Intent to Prepare an Environmental Impact Statement was published in the Federal Register on September 15, 2009 (74 FR 47245). Public scoping meetings were held subsequent to the Notice of Intent, but a Draft EIS was not produced. The HVS interconnection requests are no longer active; accordingly, Western is terminating the NEPA review process on its interconnection decision.

The Assistant Secretary, Environment, Safety and Health granted approval authority to Western's Administrator for EISs related to integrating major new sources of generation in an October 4, 1999, memorandum. Under the authority granted by that memorandum, I have terminated the NEPA process for HVS's proposed project with the publication of this notice.

Dated: September 8, 2011.
Timothy J. Meeks,
Administrator.

[FR Doc. 2011-23783 Filed 9-15-11; 8:45 am]

BILLING CODE 6450-01-P